DEPARTMENT OF THE INTERIOR

Bureau of Land Management

43 CFR Part 8360

[BLM_CO_FRN_MO4500170792]

Public Lands Administered by the Tres Rios Field Office in Archuleta, La Plata, Montezuma, Dolores, San Miguel, and Montrose Counties; and by the Gunnison Field Office in Gunnison, Ouray, San Juan, and Hinsdale Counties, CO

AGENCY: Bureau of Land Management, Interior.

ACTION: Proposed supplementary rule.

SUMMARY: The Bureau of Land Management (BLM) Colorado is proposing a supplementary rule for public lands addressed in five planning efforts in the Tres Rios and Gunnison Field Offices. The proposed supplementary rule would implement decisions relating to motorized and non-motorized vehicles, day-use areas, seasonal wildlife habitat protection, camping, and campfires.

DATES: Please send comments to the following address by April 29, 2024. Comments postmarked or received in person or by electronic mail after this date may not be considered when developing the final supplementary rule.

ADDRESSES: Please send comments related to the proposed supplementary rule implementing the Tres Rios Field Office (TRFO) Resource Management Plan (RMP), the Dolores River Corridor Management Plan (CMP), and the TRFO Transportation and Access Plan—Travel Area 1 (TAP1) to the Bureau of Land Management, Tres Rios Field Office, 29211 Highway 184, Dolores, CO 81323; or email comments to tfouss@blm.gov.

Please send comments related to the proposed supplementary rule implementing the Alpine Triangle Recreation Area Management Plan (RAMP) and the Silverton Travel Management Plan (TMP) to the Bureau of Land Management, Gunnison Field Office, 210 W Spencer Ave., Gunnison, CO 81230; or email comments to jlovelac@blm.gov.

On all comments, please include “Proposed Supplementary Rule” in the subject line.

FOR FURTHER INFORMATION CONTACT: For information regarding the TRFO RMP, Dolores River CMP, and TRFO TAP1, contact Tyler Fouss, Field Staff Ranger, Bureau of Land Management, Tres Rios Field Office, 29211 Highway 184, Dolores, CO 81323; telephone 970-882-1131; email: tfouss@blm.gov.

For further information related to the Alpine Triangle RAMP and Silverton TMP, please contact James Lovelace, Supervisory Outdoor Recreation Planner, Bureau of Land Management, Gunnison Field Office, 210 W Spencer Ave., Gunnison, CO 81230; telephone 970-642-4953; email jlovelac@blm.gov.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

I. Public Comment Procedures

II. Background

III. Discussion

IV. Procedural Matters

V. Proposed Supplementary Rule

I. Public Comment Procedures

Written comments on the proposed supplementary rule should be specific, confined to issues pertinent to the proposed supplementary rule, and should explain the reason for any recommended change. Where possible, comments should reference the specific section or paragraph of the proposed supplementary rule. In developing the final supplementary rule, the BLM is not obligated to consider or include in the administrative record comments received after the close of the comment period unless postmarked or electronically dated before the deadline (see DATES) or comments delivered to an address or email other than those identified in ADDRESSES.

Comments, including names, street addresses, and other contact information of respondents, will be available for public review at the TRFO and at the Gunnison Field Office (GFO) addresses (see ADDRESSES) during regular business hours Monday through Friday, except Federal holidays. Before including your address, phone number, email address, or other personal identifying information in your comment, you should be aware that your entire comment—including your personal identifying information—may be made publicly available at any time. While you can ask us in your comment to withhold your personal identifying information from public review, we cannot guarantee we will be able to do so.

II. Background

In 2015, the TRFO approved an RMP to replace portions of the San Juan/San Miguel RMP that are within the jurisdiction of the TRFO (previously known as the San Juan Resource Area). The RMP and Record of Decision provided direction on how the BLM would manage public lands in Archuleta, La Plata, Montezuma, Dolores, San Miguel, Montrose, Gunnison, San Juan, Ouray, and Hinsdale Counties, Colorado, except for public lands within the Canyon of the Ancients National Monument, which is managed under a separate RMP approved in 2010. The TRFO RMP includes the Dolores River CMP and Alpine Triangle RAMP, which were approved in 1990 and 2010, respectively. During the public planning and EIS processes for the TRFO RMP, the BLM identified the need to establish a supplementary rule to provide for visitor health and safety and to protect cultural, wildlife, and natural resources on public lands managed by the BLM.

When the BLM adopted the TRFO RMP, the plan included BLM-managed lands now under the jurisdiction of the GFO due to changes in the TRFO and GFO boundaries. Neither the TRFO RMP nor the GFO RMP have been updated to reflect these changes; thus the proposed supplementary rule would also apply to BLM-managed lands now administered by the GFO in parts of Hinsdale, San Juan, and Ouray Counties.

Over the past 10 years, the BLM has recorded increases in visitation numbers and subsequent pressures in Special Recreation Management Areas (SRMAs), critical winter wildlife habitat areas, and to archaeological sites throughout the GFO and TRFO. To address the increasing concerns, the BLM is renewing its efforts to adopt a supplementary rule to implement the decisions in the five management plans to protect visitor health and safety and prevent natural and cultural resource degradation.

Several sections of the proposed rule would implement decisions spanning all public lands managed by the BLM in the TRFO and GFO. Other sections would apply only to specific types of BLM-managed lands, such as SRMAs or critical winter wildlife habitat areas experiencing the most intense visitation. The proposed rule would only address land use limitations and restrictions previously proposed, analyzed, and approved as part of the public planning processes for the TRFO RMP, Dolores River CMP, TRFO TAP1, Alpine Triangle RAMP, Silverton TMP, and associated Environmental Impact Statements (EIS) or Environmental Assessments (EA). The BLM developed the five management plans with extensive input from the public, Tribes, and elected officials through scoping, opportunities for public comment, and resource advisory committee meetings. The BLM took the following steps to involve the public in developing the plans that are the basis for this proposed supplementary rule:

1. The TRFO RMP, initially a joint multi-agency planning effort, included extensive public participation in determining appropriate uses in the planning area. Public comments and input received during all planning stages resulted in the BLM fine-tuning its TRFO RMP. The TRFO RMP applies only to public lands managed by the BLM.

2. Public participation for the Dolores River CMP was a coordinated effort consisting of a task force of people representing diverse interests, including local governments, private landowners, wildlife and fishing enthusiasts, resource conservationists, and private and commercial boaters. In addition, the BLM hosted several public meetings in local communities surrounding the planning area to consider options for managing the river canyon.

3. To develop the TRFO TAP1, the BLM met with various individuals, organizations, and interest groups representing motorized, equestrian, and mechanized users as well as conservation organizations. The BLM also hosted open-house meetings to solicit initial public input.

4. Public participation was vital to developing the Alpine Triangle RAMP. The BLM developed and implemented a public involvement strategy to obtain input from a diverse group of stakeholders and set the stage for community support.

5. The public involvement effort for the Silverton TMP included opportunities for the public to provide feedback during scoping and review of the EA and a BLM open house public meeting at Kendall Mountain in Silverton, CO.

III. Discussion

This proposed supplementary rule would apply only to public lands and facilities managed by the TRFO and the GFO.

The decisions in the five management plans this proposed supplementary rule would implement are focused on protecting public health and safety and preventing damage to natural and cultural resources. The five management plans include decisions concerning restrictions, prohibitions, and allowable uses to address identified issues or achieve management goals and objectives. For these decisions to be effectively implemented, enforcement is often needed, first to ensure the management decisions are properly understood and followed and second to provide for civil and criminal penalties should these restrictions and prohibitions not be followed. Most public land users will not notice meaningful changes as many of the sections of the proposed supplementary rule have been long-held recommendations that will now become regulations.

Proposed supplementary rule numbers 1 through 14 address travel management within the TRFO and GFO for the Cortez, Dolores River, Durango, and Silverton SRMAs; the Gypsum Valley, Ancestral Puebloan, and Mesa Verde Escarpment Areas of Critical Environmental Concern (ACECs); Spring Creek Wild Horse Herd Management Area (HMA); the Willow Creek and Perins Peak Wildlife Management Areas; designated Wilderness Study Areas (WSAs); and the Coyote Wash and Snaggletooth areas managed to protect wilderness characteristics. The Silverton SRMA falls under the GFO but is identified in the TRFO RMP.

The proposed supplementary rule would direct mechanized travel to designated routes to better preserve the essential resources attracting visitors to public lands, including scenic, cultural, and wildlife habitat resources. Travel off designated routes would be allowed for uses such as camping, picnicking, and firewood cutting as identified in the TMPs.

WSAs are managed for primitive and unconfined recreation, opportunities for solitude, naturalness, roadlessness, livestock grazing, natural resources, and biodiversity. The Ancestral Puebloan and Mesa Verde Escarpment ACECs are designated for the protection of Ancestral Puebloan architectural sites. Non-motorized and mechanized travel in the ACECs would be limited to designated roads, trails, and areas to protect significant archeological resources.

The Perins Peak and Willow Creek Wildlife Management Areas are essential areas to focus on protecting wildlife habitat and providing security. Mechanized travel in these areas would detract from wildlife management objectives. The BLM set aside the Perins Peak Wildlife Management Area to protect wildlife habitat. Within the Willow Creek Wildlife Management Area, mechanized restrictions would minimize winter stress and impacts to Gunnison Sage-grouse from December 1 through March 15 and during critical nesting and breeding seasons occurring from March 1 through June 30.

Proposed supplementary rule number 15 would implement the TRFO RMP decision requiring domestic animals, such as dogs, within the Cortez SRMA, Durango SRMA, and Silverton SRMA to be controlled by leashes or voice command. This rule would resolve potential user conflicts and safety concerns due to the high number of social interactions among different user groups and their pets. The rule would also reduce user conflicts with livestock or wild game in these high-use recreation areas. For example, within the Silverton SRMA, this rule is needed to prevent negative interactions between recreationists and sheep herds, including the dogs used to protect them.

Proposed supplementary rule numbers 16 through 18 would implement decisions associated with visitor day use within the Cortez SRMA and the Durango SRMA, as identified in the TRFO RMP. Within the Cortez SRMA, the supplementary rule would implement the RMP's decision to prohibit camping, specifically in the Phil's World Recreation Management Zone (RMZ) and Mud Springs RMZ portions of the Cortez SRMA. Residential trash dumping and “party debris” have been ongoing problems at both sites. Unmanaged dispersed camping can cause impacts to land and human health, leading to human waste concerns, especially in areas of high trail density as well as within drainages. Phil's World is a nationally and internationally recognized mountain biking trail system with well-developed visitor expectations for high-value mountain bike trail experiences in a predominately natural setting. Developed or semi-developed camping sites within this unit would be out of character for this setting. However, camping opportunities are available in nearby public land parcels within the Cortez SRMA, which provides a broad spectrum of recreational opportunities within the area.

Within the Durango SRMA, the proposed rule would implement the RMP's prohibition against visitors entering the Animas City Mountain, Skyline, and Grandview RMZs of the Durango SRMA at night. The areas affected by this rule are in the urban interface with the city of Durango and are popular for hiking, biking, and horseback riding. Dispersed camping has impacted land and human health, especially in high-trail-use areas and drainages. The proximity of these RMZs to the city of Durango, as well as an increase in transient, unhoused people in the region, has resulted in non-recreation-related dispersed camping impacts to this landscape.

The proposed rule would also implement the RMP's ban on campfires in the Animas City Mountain, Skyline, and Grandview RMZs. Campfires within the Animas City Mountain, Skyline, and Grandview RMZs of the Durango SRMA create an increased risk of wildfire in an urban environment (city of Durango), which results in damage to natural and cultural resources and threats to public safety. In addition, campfire rings, ashes, and associated garbage left behind at campfire sites have a negative visual impact on the area. Finally, the presence of campfire rings encourages repeated illegal camping.

Proposed supplementary rule numbers 19 through 22 would implement camping and fire restrictions within the Alpine Triangle, as determined in the TRFO RMP and the Alpine Triangle RAMP. This proposed rule is needed to protect historic buildings and resources as well as the historical value of the area's mining history. Visitors may not intentionally harm historic sites when they camp; however, several camping activities cause inadvertent damage. For example, campfires can destroy or contaminate the historical record vital to our understanding of historical resources. Also, accidental trampling from foot traffic and camping shelters causes the movement of structures and site features. The supplementary rule would implement the decision in the Alpine Triangle RAMP to prohibit camping near sites included or eligible for inclusion in the National Register of Historic Places. In addition, campfires would be prohibited within 100 feet of historic structures.

Proposed supplementary rule numbers 23 through 29 would implement decisions addressing river management within the Dolores River corridor in the TRFO RMP and Dolores River CMP. These decisions preserve the primitive settings and wilderness characteristics within the river corridor.

The TRFO RMP and Dolores River CMP limit group size to allow the BLM to manage the area to meet resource and carrying capacity guidelines. In addition, the proposed supplementary rule would implement registration requirements at the boat launch sites allowing the BLM to better understand visitor use trends to manage recreational settings and experiences.

The provision implementing the RMP's requirement for river users to use a portable toilet would reduce exposure to human waste, which is a health risk to the public and BLM personnel. A human waste carry-out system must accompany all trips on the river. This system needs to contain washable, reusable, human waste containers. The waste carry-out system must provide for secure containment and an adequate volume of storage relative to group size and trip length. Plastic or metal waste containers must be sturdy enough to withstand strong impact and have a leak-proof lid even when inverted. The river canyon's confined nature cannot accommodate indiscriminate digging of shallow pit toilets for each overnight group traveling down the river. The day-use river users are not required to have a human waste carry-out system.

The proposed rule would also implement the TRFO RMP and Dolores CMP's decision to prohibit collecting dead or downed wood. McPhee Dam's presence has dramatically reduced the supply of driftwood downstream of the dam on the Dolores River and supplies are no longer replenished yearly. Though the periodic death of green trees will augment the canyons bottoms' natural wood reserve, increasing and sustained demand by boaters and other campers would likely deplete this supply. Also, driftwood piles along riverbanks provide unique habitats for species such as weasels, mink, lizards, and ringtails.

The proposed supplementary rule would also require fire pans for any campfires within the Dolores River corridor in the TRFO RMP and Dolores River CMP. Packing out ashes is another tool for maintaining as clean a river as possible.

Proposed supplementary rule numbers 30 through 33 would implement the TRFO RMP's decisions to close areas within the Cortez SRMA, Durango SRMA, and Perins Peak Wildlife Management Area to minimize big game species' stress and impacts within an area identified as critical winter habitat. This proposed rule would implement decisions to close the areas to all entry from December 1-April 30 each year for the protection of critical wildlife habitat. The closure may be lifted on April 15 if conditions and wildlife needs warrant.

The supplementary rule would also implement the TRFO RMP's decision to close Perins Peak Wildlife Management Area to all entry from March 15-July 31 each year to protect critical raptor habitat.

The authority for this proposed supplementary rule is set forth at sections 303 and 310 of the Federal Land Policy and Management Act, 43 U.S.C. 1733 and 1740. The BLM is proposing this supplementary rule under the authority of 43 Code of Federal Regulations (CFR) 8365.1-6, which allows BLM State Directors to establish supplementary rules for the protection of persons, property, and public lands and resources.

Procedural Matters

Regulatory Planning and Review (Executive Orders (E.O.) 12866, 14094 and 13563)

This proposed supplementary rule is not a significant regulatory action and is not subject to review by the Office of Management and Budget under E.O. 12866. This proposed supplementary rule would not have an annual effect of $100 million or more on the economy. It is not intended to affect commercial activity, but rather to impose rules of conduct for public use on a limited area of public lands. It would not adversely affect, in a material way, the economy, productivity, competition, jobs, environment, public health or safety, State, local, or Tribal governments, or communities. This proposed supplementary rule would not create a serious inconsistency or otherwise interfere with an action taken or planned by another agency.

The rule would not materially alter the budgetary effects of entitlements, grants, user fees, or loan programs or the rights or obligations of their recipients; nor would it raise novel legal or policy issues. It merely strives to protect public safety and the environment.

Regulatory Flexibility Act

Congress enacted the Regulatory Flexibility Act of 1980 (RFA), as amended, 5 U.S.C. 601-612, to ensure that government regulations do not unnecessarily or disproportionately burden small entities. The RFA requires a regulatory flexibility analysis if a rule would have a significant economic impact, either detrimental or beneficial, on a substantial number of small entities. This proposed supplementary rule would have no effect on business entities of any size. This supplementary rule would merely impose reasonable restrictions on certain recreational activities on certain public lands to protect natural resources and the environment and human health and safety. Therefore, the BLM has determined under the RFA that this proposed supplementary rule would not have a significant economic impact on a substantial number of small entities.

Congressional Review Act

This proposed supplementary rule does not constitute a “major rule” as defined at 5 U.S.C. 804(2). This proposed supplementary rule would merely establish rules of conduct for public use of a limited area of public lands.

Unfunded Mandates Reform Act

This proposed supplementary rule would not impose an unfunded mandate on State, local, or Tribal governments or the private sector of more than $100 million per year; nor would this proposed supplementary rule have a significant or unique effect on State, local or Tribal governments or the private sector. This proposed supplementary rule would merely impose reasonable restrictions on certain recreational activities on certain public lands in Colorado to protect natural resources and the environment and human health and safety. Therefore, the BLM is not required to prepare a statement containing the information required by the Unfunded Mandates Reform Act (2 U.S.C. 1531 et seq.).

Governmental Actions and Interference With Constitutionally Protected Property Rights—Takings (E.O. 12630)

This proposed supplementary rule is not a government action capable of interfering with constitutionally protected property rights. This proposed supplementary rule would not affect a taking of private property rights in any form; and would not cause the impairment of constitutionally protected property rights. A takings implication assessment is not required. This proposed supplementary rule would merely impose reasonable restrictions on certain recreational activities on certain public lands in Colorado to protect natural resources and the environment and human health and safety. Therefore, the BLM has determined this proposed supplementary rule would not cause a “taking” of private property or require further discussion of takings implications under this E.O.

Federalism (E.O. 13132)

This proposed supplementary rule would not have a substantial direct effect on the States, on the relationship between the Federal Government and the States, or on the distribution of power and responsibilities among the various levels of government. Therefore, in accordance with E.O. 13132, the BLM has determined that this proposed supplementary rule does not have sufficient federalism implications to warrant preparation of a Federalism Assessment.

Civil Justice Reform (E.O. 12988)

This proposed supplementary rule complies with the requirements of E.O. 12988. More specifically, this proposed supplementary rule meets the criteria of Section 3(a), which requires agencies to review all regulations to eliminate errors and ambiguity and to write all regulations to minimize litigation. This proposed supplementary rule also meets the criteria of Section 3(b)(2), which requires agencies to write all regulations in clear language with clear legal standards.

Consultation and Coordination With Indian Tribal Governments (E.O. 13175 and Departmental Policy)

In accordance with E.O. 13175, the BLM has determined this proposed supplementary rule does not include policies that have tribal implications and would have no bearing on trust lands or on lands for which title is held in fee status by Indian Tribes or U.S. Government-owned lands managed by the Bureau of Indian Affairs. Since this supplementary rule would not involve Indian reservation lands or resources, the BLM has determined government-to-government relationships remain unaffected. This proposed supplementary rule would merely establish rules of conduct for public use of a limited area of public lands.

Paperwork Reduction Act (44 U.S.C. 3501 et seq.)

This proposed supplementary rule does not contain information collection requirements that the Office of Management and Budget must approve under the Paperwork Reduction Act of 1995, 44 U.S.C. 3501-3521.

National Environmental Policy Act

This proposed supplementary rule would allow the BLM to implement and enforce key decisions in the TRFO RMP, the Dolores River CMP, the TRFO TAP1, the Alpine Triangle RAMP, and the Silverton TMP within TRFO and GFO. This proposed supplementary rule would not change the NEPA analysis or decisions set forth in each of the plans. During the National Environmental Policy Act (NEPA) review for each of these planning efforts, the BLM fully analyzed the effects of this proposed supplementary rule in their respective NEPA documents:

• TRFO RMP EIS (DOI-BLM-CO-S010-2011-0067-EIS)

• Dolores River CMP EA (DOI-BLM-CO-030-SJ-90-46)

• TRFO TAP1 EA (DOI-BLM-CO-S010-2018-0013)

• Alpine Triangle RAMP EA (DOI-BLM-CO-160-2008-023-EA)

• Silverton TMP EA (DOI-BLM-CO-F070-2019-0008-EA)

The BLM prepared a Determination of NEPA Adequacy to confirm that the prior analyses and public comment processes were sufficient to inform the decision to establish this supplementary rule. Therefore, additional NEPA analysis is not required. Copies of the NEPA analysis and relevant decision document for each of the aforementioned plans, and the Determination of NEPA Adequacy for this proposed supplementary rulemaking, are on file at the BLM offices at the addresses specified in the ADDRESSES section and electronic copies are available online at https://eplanning.blm.gov/eplanning-ui/project/96401/510.

Information Quality Act

In developing this proposed supplementary rule, the BLM did not conduct or use a study, experiment or survey requiring peer review under the Information Quality Act (Section 515 of Pub. L. 106-554).

Actions Concerning Regulations That Significantly Affect Energy Supply, Distribution, or Use (E.O. 13211)

This proposed supplementary rule does not comprise a significant energy action. This proposed supplementary rule would not have an adverse effect on energy supply, production, or consumption and have no connection with energy policy.

Facilitation of Cooperative Conservation (E.O. 13352)

In accordance with E.O. 13352, the BLM has determined this proposed supplementary rule would not impede facilitating cooperative conservation; would take appropriate account of and consider the interests of persons with ownership or other legally recognized interests in land or other natural resources; would properly accommodate local participation in the Federal decision-making process; and would provide that the programs, projects and activities are consistent with protecting public health and safety.

Clarity of the Supplementary Rule

E.O.s 12866, 12988, and 13563 require each agency to write regulations that are simple and easy to understand. The BLM invites your comments on how to make this proposed supplementary rule easier to understand, including answers to questions such as the following:

1. Are the requirements in the proposed supplementary rule clearly stated?

2. Does the proposed supplementary rule contain technical language or jargon that interferes with its clarity?

3. Does the format of the proposed supplementary rule (grouping and order of sections, use of headings, paragraphing, etc.) aid or reduce clarity?

4. Is the description of the proposed supplementary rule in the SUPPLEMENTARY INFORMATION section of this preamble helpful in understanding the supplementary rule? How could this description be more helpful in making the proposed supplementary rule easier to understand?

Please send any comments you have on the clarity of the rule to the address specified in the ADDRESSES section.

Author

The principal author of this proposed supplementary rule is Tyler Fouss, Field Staff Ranger, Bureau of Land Management, Tres Rios Field Office, Colorado.

V. Proposed Supplementary Rule

For the reasons stated in the preamble, and under the authorities for supplementary rules found at 43 U.S.C. 1740, and 43 CFR 8365.1-6, the BLM Colorado State Director proposes this Supplementary Rule for public lands managed by the BLM in the Tres Rios Field Office and the Gunnison Field Office, to read as follows:

Proposed Supplementary Rule for the Tres Rios Field Office and Gunnison Field Office

Definitions

Ancestral Puebloan Area of Critical Environmental Concern (ACEC) means the area designated as the ACEC with the same name in the TRFO RMP.

Area of Critical Environmental Concern (ACEC) means areas within the public lands where special management attention is required (when such areas are developed or used or where no development is required) to protect and prevent irreparable damage to important historic, cultural, or scenic values, fish and wildlife resources or other natural systems or processes, or to protect life and safety from natural hazards.

Campfire has the same meaning as it does at 43 CFR 8360.0-5(b).

Camping means the erecting of a tent or shelter of natural or synthetic material, preparing a sleeping bag or other bedding material for use, parking of a motor vehicle, motor home or trailer, or mooring of a vessel, for the apparent purpose of overnight occupancy while engaged in recreational activities such as hiking, hunting, fishing, bicycling, sightseeing, off-road vehicle activities, or other generally recognized forms of recreation.

Cortez Special Recreation Management Area (SRMA) means the area designated as the SRMA with the same name in the TRFO RMP.

Designated travel routes means roads and trails open to specified modes of travel and identified on a map of designated roads and trails available for public inspection at the BLM Tres Rios Field Office, Colorado. Designated roads and trails are open to public OHV use in accordance with such limits and restrictions as are, or may be, specified in the RMP or a Travel Management Plan (TMP), or in future decisions implementing the RMP. This definition excludes any road or trail with BLM-authorized restrictions preventing use of the road or trail. Restrictions may include, but are not limited to, signs or physical barriers such as gates, fences, posts, branches, or rocks.

Dolores River SRMA means the area designated as the SRMA with the same name in the TRFO RMP.

Durango SRMA means the area designated as the SRMA with the same name in the TRFO RMP.

Fire pan means a metal container capable of containing a campfire for purposes of containing all ash and protecting the underlying soils from scorching.

Gypsum Valley ACEC means the area designated as the ACEC with the same name in the TRFO RMP.

Herd Management Area (HMA) means those lands under the supervision of the Bureau of Land Management managed for the maintenance of wild horse and burro herds.

Historic site means any prehistoric or historic district, site, building, structure, or object included in, or eligible for inclusion in, the National Register of Historic Places. The term includes properties of traditional religious and cultural importance to an Indian tribe or Native Hawaiian organization and that meet the National Register criteria. The term “eligible for inclusion in the National Register of Historic Places” includes both properties formally determined as such by the Secretary of the Interior and all other properties that meet National Register of Historic Places listing criteria.

Lands managed to protect wilderness characteristics means those lands that have been:

(1) Inventoried and determined by the BLM to contain wilderness characteristics as defined in section 2 (c) of the Wilderness Act; and

(2) Identified to protect those characteristics through a land use planning process and subsequent Record of Decision.

Mechanized vehicle means any device propelled solely by human power, upon which a person, or persons, may ride on land, having any wheels, with the exception of a wheelchair.

Mesa Verde Escarpment ACEC means the area designated as the ACEC with the same name in the TRFO RMP.

Motorized vehicle means any vehicle propelled by a motor or engine, capable of, or designed for, travel on or immediately over land, water, or other natural terrain, such as a car, truck, off-highway vehicle, motorcycle, or snowmobile.

Off-highway vehicle has the same meaning as it does at 43 CFR 8340.0-5(a).

Perins Peak Wildlife Management Area means the area designated as the Wildlife Management Area with the same name in the TRFO RMP that is managed by the BLM for critical big game winter wildlife habitat and critical raptor habitat.

Portable toilet means a washable, leak-proof, reusable toilet system that allows for the carry-out and disposal of solid human body waste in a responsible and lawful manner; the system must be adequate for the size of the group and length of the trip. If a Wag Bag system is used it must be in a hard-sided, clamped or screw top container—not a dry bag.

Public lands has the same meaning as it does at 43 U.S.C. 1702(e).

Redcloud Peak ACEC means the area designated as the ACEC with the same name in the Alpine Triangle RAMP, managed by the Gunnison Field Office.

Resource Damage means damage to or disturbance of the soil, wildlife, wildlife habitat, improvements, cultural, or vegetative resources.

Silverton SRMA means the area designated as the SRMA with the same name in the TRFO RMP, and managed by the Gunnison Field Office.

Special Recreation Management Area (SRMA) means an administrative unit where the existing or proposed recreation opportunities and recreation setting characteristics are recognized for their unique value, importance and/or distinctiveness, especially as compared to other areas used for recreation.

Spring Creek Wild Horse HMA means the area designated as the HMA with the same name in the TRFO RMP.

Wilderness Study Area (WSA) means an area that has been identified as a Wilderness Study Area in the either the Gunnison or TRFO RMPs.

Willow Creek Wildlife Management Area means the area designated as the Wildlife Management Area with the same name in the TRFO RMP.

Prohibited Acts

Unless otherwise authorized, the following acts are prohibited on all public lands, roads, trails, and waterways administered by the BLM within the areas defined:

Within the Cortez SRMA, the Dolores River SRMA, the Durango SRMA, the Ancestral Puebloan ACEC, the Gypsum Valley ACEC, the Mesa Verde Escarpment ACEC, the Perins Peak and Willow Creek Wildlife Management Areas, the Spring Creek Wild Horse HMA, as identified in the TRFO RMP:

1. You must not operate or possess a mechanized vehicle on any route, trail, or area not designated as open to such use, unless you are using a mechanized game cart to retrieve a large game animal with a valid carcass tag. Game carts are not allowed within the Perins Peak Wildlife Management Area.

2. You must not use vehicles designed for traveling over snow unless there is adequate snow cover to protect the underlying vegetation and soils from the impact of that use. This use is prohibited in designated Wilderness, WSAs, or lands with wilderness characteristics that are managed to protect wilderness characteristics, in areas designated by Colorado Parks and Wildlife as critical big game winter relief and winter concentration areas, or areas designated by Colorado Parks and Wildlife as occupied Gunnison sage-grouse habitat.

3. You must not possess a motorized vehicle beginning 2.4 miles north of the San Miguel/Dolores County line on the section of Road 14F vacated by San Miguel County (road vacated 2.4 miles north of the San Miguel/Dolores County line for a distance of 2.4 miles) from February 1 through May 1 each year to protect Desert Bighorn Sheep lambing, within the Dolores River SRMA.

4. You must not operate a mechanized vehicle within the Willow Creek Wildlife Management Area from December 1 through June 30 each year for the protection of Gunnison Sage-grouse habitat.

5. You must not operate a mechanized vehicle within the Perins Peak Wildlife Management Area.

6. You must not hike, ride or be in possession of horses or other pack animals on any route, trail, or area not designated as open to such use within the Ancestral Puebloan ACEC and Mesa Verde Escarpment ACEC. Hiking and horseback riding is allowed both on and off designated travel routes throughout the remainder of the area managed by the Tres Rios Field Office.

Within designated WSAs and the Coyote Wash and Snaggletooth lands with wilderness characteristics, as identified in the TRFO RMP:

7. You must not operate or possess a mechanized vehicle.

Within Archuleta County, La Plata County, and Montezuma County, as identified in the TRFO TAP-1:

8. You must not possess a mechanized vehicle on any route, trail, or area not designated as open to such use, unless you are using a mechanized game cart to retrieve a large game animal with a valid carcass tag. Game carts are not allowed within the Perins Peak Wildlife Management Area.

9. You must not park or use a motorized or mechanized vehicle more than 100 feet from the edge of a designated travel route (e.g., for such uses as camping, picnicking, or firewood cutting) as identified in the Travel Management Plan and travel management maps and firewood cutting map.

10. You must not park a motorized vehicle more than 20 feet from the edge of a designated travel route or in a manner that causes resource damage in the Chutes and Ladders portion of the Cortez SRMA or the Mahan area within La Plata County.

11. You must not use vehicles designed for traveling over snow unless there is adequate snow cover to protect the underlying vegetation and soils from the impact of that use. This use is prohibited in designated Wilderness, WSAs, or other lands managed to protect wilderness characteristics, in areas designated by Colorado Parks and Wildlife as critical big game winter relief and winter concentration areas, or in areas designated by Colorado Parks and Wildlife as occupied Gunnison sage-grouse habitat.

Within the Silverton SRMA as identified in the TRFO RMP and the Silverton TMP administered by the GFO:

12. You must not operate or possess a mechanized vehicle on any route, trail, or area not designated as open to such use unless you are using a mechanized game cart to retrieve a large game animal with a valid carcass tag outside of designated WSAs, or congressionally designated Wilderness Areas.

13. You must not park a motorized vehicle more than 30 feet from the edge of a designated travel route or in a manner that causes resource damage.

14. You must not use vehicles designed for traveling over snow unless there is adequate snow cover to protect the underlying vegetation and soils from the impact of that use. This use is prohibited in designated WSAs, congressionally designated Wilderness areas, and other lands managed to protect wilderness characteristics. This use is also prohibited in areas designated by Colorado Parks and Wildlife as critical big game winter relief and winter concentration areas or areas designated by Colorado Parks and Wildlife as occupied Gunnison sage-grouse habitat.

Within the Cortez SRMA, Durango SRMA and Silverton SRMA, as identified in the TRFO RMP:

15. Domestic animals must be on a leash or under voice command.

Within the Cortez SRMA and the Durango SRMA as identified in the TRFO RMP:

16. You must not enter or use the area within the Phil's World Recreation Management Zone (RMZ) and Mud Springs RMZ portion of the Cortez SRMA ½ hour after sunset to ½ hour before sunrise unless:

a. You are using the non-motorized trails within the Phil's World Area; or

b. You are a licensed hunter and acting in accordance with all rules and regulations as defined by Colorado Parks and Wildlife.

17. You must not enter or use the area ½ hour after sunset to ½ hour before sunrise within the Animas City Mountain, Skyline and Grandview Recreation Management Zones of the Durango SRMA, except if you are a licensed hunter and acting in accordance with all rules and regulations as defined by Colorado Parks and Wildlife.

18. You must not build, ignite, maintain, or attend to a fire or campfire within the Animas City Mountain, Skyline and Grandview Recreation Management Zones of the Durango SRMA.

Within the Alpine Triangle as identified in the TRFO RMP and the Alpine Triangle RAMP for the GFO

19. You must not camp within 300 feet of the Animas Forks district boundary and the Gold Prince Mill National Register Districts.

20. You must not camp within 150 feet of a historic structure.

21. You must not ignite or maintain a campfire within 150 feet of a historic structure.

22. You must not ignite or maintain a campfire above 12,000 feet within the Redcloud Peak ACEC.

Within the Dolores River SRMA as identified in the TRFO RMP and the Dolores River CMP:

23. You must not use motorized watercraft from Bradfield Bridge to Bedrock.

24. You must register at a developed BLM river launch point prior to watercraft use from Bradfield Bridge to Bedrock.

25. You must not exceed posted group-size limits.

26. During overnight river trips, you must dispose human waste into a portable toilet.

27. You must not gather dead or down wood.

28. You must not have a campfire or charcoal fire without the use of a fire pan.

29. You must pack out all ashes associated with a campfire or charcoal fire.

Within the Cortez SRMA, Durango SRMA and Perins Peak Wildlife Management Area as identified in the TRFO RMP:

30. You must not enter the Chutes-n-Ladders, Summit, and Aqueduct areas of the Montezuma Triangle Recreation Management Zone within the Cortez SRMA from December 1 through April 30 each year for the protection of critical winter wildlife habitat. Travel on county roads through the areas is allowed.

31. You must not enter identified closure areas in the Animas City Mountain and Grandview Ridge Recreation Management Zones of the Durango SRMA from December 1 through April 30 each year for the protection of critical winter wildlife habitat. This closure may be opened April 15 if conditions and wildlife needs warrant.

32. You must not enter identified closure areas in the Perins Peak Wildlife Management Area from December 1 through April 30 each year for the protection of critical winter wildlife habitat. This closure may be opened April 15 if conditions and wildlife needs warrant.

33. You must not enter identified closure areas in the Perins Peak Wildlife Management Area from March 15 through July 31 each year for the protection of critical raptor habitat.

Exemptions

The following persons are exempt from this supplementary rule: Any Federal, State, local, and/or military employees acting within the scope of their official duties; members of any organized rescue or fire fighting force performing an official duty; and persons who are expressly authorized or approved by the BLM.

Enforcement

Any person who violates any part of this supplementary rule may be tried before a United States Magistrate and fined in accordance with 18 U.S.C. 3571, imprisoned no more than 12 months under 43 U.S.C. 1733(a) and 43 CFR 8360.0-7, or both. In accordance with 43 CFR 8365.1-7, State or local officials may also impose penalties for violations of Colorado or local law.

(Authority: 43 U.S.C. 1733(a), 1740; 43 CFR 8365.1-6)

Douglas J. Vilsack,
BLM Colorado State Director.

[FR Doc. 2024-03732 Filed 2-27-24; 8:45 am]

BILLING CODE 4331-16-P